DEPARTMENT OF HEALTH AND HUMAN SERVICES

Administration for Children and Families

Proposed Information Collection Activity; Tribal Maternal, Infant, and Early Childhood Home Visiting Program Guidance for Submitting Reports to the Secretary (Office of Management and Budget (OMB) #0970-0409)

AGENCY: Office of Early Childhood Development, Administration for Children and Families, Department of Health and Human Services.

ACTION: Request for public comments.

SUMMARY: The Administration for Children and Families (ACF), Office of Early Childhood Development (ECD) is requesting revisions to the Tribal Maternal, Infant, and Early Childhood Home Visiting Program (Tribal MIECHV) Guidance for Submitting Reports to the Secretary (Office of Management and Budget (OMB) #0970-0409; expiration September 30, 2024). Guidance under this OMB number includes that for an annual report and that for a final report. This request is for review of the final report guidance. There are no changes proposed to the guidance for the annual report.

DATES: Comments due within 60 days of publication. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 511(e)(8)(A) of Title V of the Social Security Act requires that grantees under the MIECHV program for states and jurisdictions submit an annual and a final report to the Secretary of Health and Human Services regarding the program and activities carried out under the program, including such data and information as the Secretary shall require. Section 511(h)(2)(A) further states that the requirements for the MIECHV grants to tribes, tribal organizations, and urban Indian organizations are to be consistent, to the greatest extent practicable, with the requirements for grantees under the MIECHV Program for states and jurisdictions.

ECD, in collaboration with the Health Resources and Services Administration, Maternal and Child Health Bureau awarded grants for the Tribal MIECHV Program (Tribal Home Visiting) to support cooperative agreements to conduct community needs assessments; plan for and implement high-quality, culturally relevant, evidence-based home visiting programs in at-risk tribal communities; establish, measure, and report on progress toward meeting performance measures in six legislatively mandated benchmark areas; and conduct rigorous evaluation activities to build the knowledge base on home visiting among Native populations.

After the first grant year, Tribal Home Visiting grantees must comply with the requirement to submit an annual report to the Secretary that should feature activities carried out under the program during the past reporting period, and a final report to the Secretary during the final year of their grant. To assist grantees with meeting these requirements, ACF created guidance for grantees to use when writing their reports. The annual and final report guidance specifies that grantees must address the following:

• Update and reflections on meeting Home Visiting Program Goals and Objectives

• Update and reflections on Home Visiting Programs in Targeted Community(ies)

• Update and reflections on meeting Legislatively Mandated Benchmark Requirements

• Update and reflections on Rigorous Evaluation Activities

• Update and reflections on Home Visiting Program Continuous Quality Improvement (CQI) Efforts

• Update and reflections on Dissemination Activities

• Update and reflections on Administration of Home Visiting Program

• Update and reflections on Technical Assistance Needs

Previously, the guidance included information about both the annual and the final reports from grantees. In 2021, ECD separated out the annual report guidance and received OMB approval for that in September 2021. ECD is now requesting review of guidance specific to the final report.

Respondents: Tribal Home Visiting Managers (information collection does not include direct interaction with individuals or families that receive the services).

Annual Burden Estimates
Instrument | Total number of respondents | Annual number of responses per respondent | Average burden hours per response | Annual burden hours
Annual Report to the Secretary | 30 | 1 | 25 | 750
Final Report to the Secretary | 30 | *.33 | 25 | 248
Estimated Total Annual Burden Hours: |  |  |  | 998
* Note that this is estimated to be .33 because grantees provide one final report over the three-year approval period.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title V of the Social Security Act, Sections 511(e)(8)(A) and 511(h)(2)(A).

Mary B. Jones,
ACF/OPRE Certifying Officer.

[FR Doc. 2022-23337 Filed 10-25-22; 8:45 am]

BILLING CODE 4184-43-P